DEPARTMENT OF HOUSING AND URBAN DEVELOPMENT

[Docket No. FR-5843-N-01]

Implementation of the Privacy Act of 1974, as Amended; New System of Records, the Rental Assistance Demonstration (RAD) Program Evaluation Data Files

AGENCY: Office of the Chief Information Officer, HUD.

ACTION: New System of Records.

SUMMARY: The Department's Office of Policy Development and Research (PD&R) is proposing to create a new system of records, the “RAD Program Evaluation Data Files.” The Department's Office of PD&R is responsible for maintaining current information on housing needs, market conditions and existing programs, as well as conducting research on priority housing and community development issues. The principal purpose of the evaluation of the RAD Program is to allow the Department to assess and report to Congress on the performance of this program, which converts public housing units to new forms of ownership, focusing on: (1) Preserving the affordable housing availability of former public housing units; (2) the amount of private capital leveraged as a result of RAD conversions; and (3) the effect that RAD conversions have on unit residents. The new SORN allows the Department to track RAD program participants for the purpose of studying the impact of the RAD program on residents of impacted public housing properties. In order to study the residents as they move from the public housing development, it is necessary to collect their contact information at this point in the program implementation. In addition, the records collected through this evaluation represent HUD's effort to be responsive to its Congressional mandate to document and report the impact of the program. A more detailed description of the new system is contained in this notice.

DATES: Effective Date: The notice will be effective February 23, 2015, unless comments are received that would result in a contrary determination.

Comments Due Date: February 23, 2015.

ADDRESSES: Interested persons are invited to submit comments regarding this notice to the Rules Docket Clerk, Office of the General Counsel, Department of Housing and Urban Development, 451 Seventh Street, SW., Room 10276, Washington, DC 20410-0500. Communication should refer to the above docket number and title. A copy of each communication submitted will be available for public inspection and copying between 8:00 a.m. and 5:00 p.m. weekdays at the above address.

FOR FURTHER INFORMATION CONTACT: Donna Robinson-Staton, Chief Privacy Officer, 451 Seventh Street SW., Washington, DC 20410 (Attention: Capitol View Building, 4th Floor), telephone number: (202) 402-8073. [The above telephone number is not a toll free number.] A telecommunications device for hearing-and speech-impaired persons (TTY) is available by calling the Federal Information Relay Service's toll-free telephone number (800) 877-8339.

SUPPLEMENTARY INFORMATION: This system of records is operated by HUD's Office of PD&R and includes personally identifiable information (PII) pertaining to participants of HUD's RAD Program from which information is retrieved by a name or unique identifier. The new system of records encompasses programs and services of the Department's data collection and management practices. Publication of this notice allows the Department to satisfy its reporting requirement and keep an up-to-date accounting of its system of records publications. The new system of records will incorporate Federal privacy requirements and HUD policy requirements. The Privacy Act provides certain safeguards for an individual against an invasion of personal privacy by requiring Federal agencies to protect records contained in an agency system of records from unauthorized disclosure, by ensuring that information is current and collected only for its intended use, and by providing adequate safeguards to prevent misuse of such information. Additionally, this notice demonstrates the Department's focus on industry best practices in protecting the personal privacy of the individuals covered by this system of records notice.

This notice states the name and location of the record system, the authority for and manner of its operations, the categories of individuals that it covers, the type of records that it contains, the sources of the information for the records, the routine uses made of the records and the type of exemptions in place for the records. In addition, this notice includes the business addresses of the HUD officials who will inform interested persons of the procedures whereby they may gain access to and/or request amendments to records pertaining to them.

This publication does meet the SORN threshold requirements pursuant to the Privacy Act and OMB Circular A-130, and a report was submitted to the Office of Management and Budget (OMB), the Senate Committee on Homeland Security and Governmental Affairs, and the House Committee on Government Reform as instructed by Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: January 12, 2015.
Rafael C. Diaz,
Chief Information Officer.

SYSTEM OF RECORDS NO.: PD&R/RRE.01

SYSTEM NAME:

Rental Assistance Demonstration (RAD) Program Evaluation Data Files.

SYSTEM LOCATION:

The Department of Housing and Urban Development, 451 Seventh Street SW., Washington, DC 20140; The Urban Institute, 2100 M Street NW., Washington, DC 20037; The SSRS, 53 West Baltimore Pike Media, PA 19063.

CATEGORIES OF INDIVIDUALS COVERED BY THE SYSTEM:

The categories of individuals covered by the system will include Rental Assistance Demonstration (RAD) Program participants who have agreed to be part of the RAD outcome study.

CATEGORIES OF RECORDS IN THE SYSTEM:

The categories of records in the system will include the participants name, home address, telephone number, and personal email address.

AUTHORITY FOR MAINTENANCE OF THE SYSTEM:

The authority for the collection of records, and the maintenance of this system is authorized by Sections 501-502 of the Housing and Urban Development Act of 1970 (Pub. L. 91-609), 12 U.S.C. 1701z-1, 1701z-2.

PURPOSE(S):

The data collected through this effort will be used to study the impact of the RAD program on residents of impacted public housing properties. RAD is an initiative of the Department of Housing and Urban Development (HUD) and many stakeholders that seek to preserve public and other HUD-assisted housing, by providing owners and Public Housing Authorities (PHAs) with access to additional funding to make needed physical improvements to such properties. In a tightened budget environment, PHAs and private owners have to make tough choices between repairing roofs and replacing plumbing—or worse, demolishing units altogether—because “of a chronic lack of adequate funding”. The public housing inventory currently has a capital needs backlog of $25.6 billion, and the nation continues to lose 10,000 to 15,000 units of affordable housing every year. RAD allows PHAs and private owners to convert public housing and other HUD-assisted properties to long-term project-based Section 8 rental assistance. It also enables them to access private debt and equity to address immediate and long-term capital needs of the projects. Most needed repairs made as part of RAD are likely to be small and residents will be able to stay in their homes during construction. However, some apartments and buildings will require more extensive rehab. In these cases, residents may be temporarily relocated. All tenants who are relocated will have the right to return to their development once construction is completed. Generally, temporary relocation should not last longer than 12 months. In a few cases, a property may be too old or deteriorated, and past the point where it can be effectively rehabilitated, requiring that it be demolished and replaced. In these instances, residents will be provided temporary relocation and will have the right to return to the replacement housing that is constructed. The authorizing statute for the demonstration program requires that HUD assess the extent to which the program meets the goals of preserving and improving former public housing units, and to assess the amount of private capital leveraged as a result of such conversions. The authorizing statute also requires HUD to assess the effect of conversion on residents. In order to track residents as they move from the public housing development, it is necessary to collect their contact information at this point in the program implementation. PII will be collected from a sample of 400 residents of public housing developments participating in HUD's RAD program who have agreed to be part of an outcomes study, which will allow HUD to understand the impact of this program on the residents of public housing developments that are implementing RAD. In addition, the records collected through this evaluation represent HUD's effort to be responsive to its Congressional mandate to document and report the impact of the RAD program.

ROUTINE USES OF RECORDS MAINTAINED IN THE SYSTEM, INCLUDING CATEGORIES OF USERS AND THE PURPOSES OF SUCH USES.

In addition to those disclosures generally permitted under 5 U.S.C. Section 552a(b) of the Privacy Act, all or a portion of the records or information contained in this system may be disclosed outside HUD as a routine use pursuant to 5 U.S.C. 552a(b)(3) as follows:

1. To Econometrica and Urban Institute staff to track study participants and locate participants for a future follow-up interview. Staff may also use the data files to match with other datasets for tracking purposes, such as change of address and credit bureau databases.

2. To appropriate agencies, entities, and persons to the extent that such disclosures are compatible with the purpose for which the records in this system were collected, as set forth by Appendix I ¹—HUD's Library of Routine Uses published in the Federal Register (July 17, 2012, at 77 FR 41996); and

¹ http://portal.hud.gov/hudportal/documents/huddoc?id=append1.pdf.

3. To appropriate agencies, entities, and persons when: (a) HUD suspects or has confirmed that the security or confidentiality of information in a system of records has been compromised; (b) HUD has determined that as a result of the suspected or confirmed compromise, there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

POLICIES AND PRACTICES FOR STORING, RETRIEVING, ACCESSING, RETAINING, AND DISPOSING OF RECORDS IN THE SYSTEM

STORAGE:

All data collected will be input and stored in a secure database. Hard-copy materials containing respondent identifying information will be locked up when not in use. PII will be accessible to the research team only at the Urban Institute and SSRS system locations. Transfer of PII between HUD and HUD's contractors through secure file transfer protocol or transportable media encryption or a similar standard. All hard-copy materials, including completed forms and electronic records on transportable media, will be kept in locked cabinets when not in use. In addition, data on transportable media will be encrypted. Records with PII will not be printed.

RETRIEVABILITY:

The contact database will include personal identifiers that can be used to locate records to update residents' whereabouts following enrollment into the outcomes study. Records within the contact database can be retrieved by name, home address, telephone number, and personal email address.

RETENTION AND DISPOSAL:

The retention and disposal procedures will be in keeping with HUD's records management policies as described in 44 U.S.C. 3101 and 3303. Records will be maintained for a period not to exceed five years. All PII associated with the project will be destroyed by Econometrica, Inc. and their subcontractors or otherwise rendered irrecoverable per NIST SP 800-88 “Guidelines for Media Sanitization” (September 2006) at the end of the contract. At the end of the contract, paper-based records that do not need to be retained will be shredded and the remainder of the files will be shredded after the three-year retention period required in the contract.

SYSTEM MANAGER(S) AND ADDRESS:

Carol Star, Director, Division of Program Evaluation, Office of Policy Development and Research, Department of Housing and Urban Development, 451 Seventh Street SW., Washington, DC 20410, Telephone Number (202) 402-6139.

NOTIFICATION AND RECORD ACCESS PROCEDURES:

For information, assistance, or inquiries about the existence of records, contact the Chief Privacy Officer, Department of Housing and Urban Development, 451 Seventh Street SW., Room 4156, Washington, DC 20410 (Attention: Capitol View Building, 4th Floor), telephone number: (202) 402-8073. Verification of your identity must include original signature and be notarized. Written request must include the full name, Social Security Number, date of birth, current address, and telephone number of the individual making the request.

CONTESTING RECORD PROCEDURES:

The Department's rules for contesting contents of records and appealing initial denials appear in 24 CFR part 16. Additional assistance may be obtained by contacting: U.S. Department of Housing and Urban Development, Chief Privacy Officer, 451 Seventh Street SW., Washington, DC 20410 (Attention: Capitol View Building, 4th Floor), telephone number: (202) 402-8073 or the HUD Departmental Privacy Appeals Officers, Office of General Counsel, Department of Housing and Urban Development, 451 Seventh Street SW., Washington DC 20410.

RECORD SOURCE CATEGORIES:

Initial contact information will be extracted from the HUD's Inventory Management System, also known as Public and Indian Housing Information Center (PIC). Any necessary updates to this contact information will be provided directly from HUD's Rental Assistance Demonstration participants who have agreed to be part of the outcomes study. The records stored in the contact database will include information that can be used to locate residents' whereabouts following enrollment into the outcomes study. This data will be supplied exclusively by the individuals themselves.

SYSTEMS EXEMPTED FROM CERTAIN PROVISIONS OF THE ACT:

None.

[FR Doc. 2015-01029 Filed 1-21-15; 8:45 am]

BILLING CODE 4210-67-P